DEPARTMENT OF THE INTERIOR

Fish and Wildlife Service

[FWS-R9-FHC-2011-N157; 94300-1122-0000-Z2]

Wind Turbine Guidelines Advisory Committee; Announcement of Public Teleconference and Webcast

AGENCY: Fish and Wildlife Service, Interior.

ACTION: Notice of public teleconference and webcast.

SUMMARY: We, the U.S. Fish and Wildlife Service (Service), will host a Wind Turbine Guidelines Advisory Committee (Committee) meeting via teleconference and webcast. This meeting is open to the public, but registration is required.

DATES:

Meeting: The meeting will take place on August 23, from 1 to 5 p.m. Eastern Time.

Pre-meeting Public Registration: If you are a member of the public wishing to participate in the meeting via telephone or webcast, you must register online by August 16, 2011 (see “Meeting Participation Information” in SUPPLEMENTARY INFORMATION).

FOR FURTHER INFORMATION CONTACT: Rachel London, Division of Habitat and Resource Conservation, U.S. Fish and Wildlife Service, Department of the Interior, (703) 358-2161.

SUPPLEMENTARY INFORMATION: We will host a Committee meeting via teleconference and webcast on August 23, 2011. This meeting is open to the public. Registration is required.

Agenda

The meeting agenda will include reports to the full Committee from Subcommittees on:

Adaptive Management and Mitigation;

Definition of “significant”;

Phase-In of Guidelines;

Habitat Fragmentation;

Table 1: Tier 4 Monitoring;

Avian and Bat Protection Plans; and

Role of the Service.

Background

On March 13, 2007, the Department of the Interior published a notice of establishment of the Committee in the Federal Register (72 FR 11373). The Committee's purpose is to provide advice and recommendations to the Secretary of the Interior (Secretary) on developing effective measures to avoid or minimize impacts to wildlife and their habitats related to land-based wind energy facilities. All Committee members serve without compensation. In accordance with the Federal Advisory Committee Act (5 U.S.C. App.), a copy of the Committee's charter is filed with the Committee Management Secretariat, General Services Administration; Committee on Environment and Public Works, U.S. Senate; Committee on Natural Resources, U.S. House of Representatives; and the Library of Congress. The Secretary appointed 22 individuals to the Committee on October 24, 2007, representing the varied interests associated with wind energy development and its potential impacts to wildlife species and their habitats. The Committee provided recommendations to the Secretary on March 4, 2010.

Meeting Participation Information

This meeting is open to the public. Members of the public planning to participate via teleconference and webcast must register at http://www.fws.gov/windenergy by close of business, August 16, 2011. Registrants will be provided with instructions for participation via e-mail.

Dated: August 3, 2011.
Rachel London,
Wind Turbine Guidelines Advisory Committee Alternate Designated Federal Officer.

[FR Doc. 2011-19972 Filed 8-5-11; 8:45 am]

BILLING CODE 4310-55-P